DEPARTMENT OF AGRICULTURE

Animal and Plant Health Inspection Service

[Docket No. 03-075-1]

Public Meeting; Plant Protection and Quarantine Stakeholders

AGENCY: Animal and Plant Health Inspection Service, USDA.

ACTION: Advance notice of public meeting and request for suggested agenda topics.

SUMMARY: We are advising the public that the Animal and Plant Health Inspection Service will hold a public meeting for the purpose of exchanging information on our Plant Protection and Quarantine (PPQ) program. We are planning the meeting agenda and are requesting suggestions for topics of general interest to PPQ stakeholders.

DATES: The meeting will be held December 9 and 10, 2003. Suggestion for agenda topics should be submitted by October 6, 2003.

ADDRESSES: The meeting will be held at the Melrose Hotel, 2430 Pennsylvania Avenue, NW., Washington, DC.

FOR FURTHER INFORMATION CONTACT: Ms. Paula Henstridge, Special Assistant to the Deputy Administrator, Plant Protection and Quarantine, Room 302-E Whitten Building, 14th Street and Independence Avenue, SW., Washington, DC 20250; (202) 720-1737; e-mail paula.henstridge@aphis.usda.gov.

SUPPLEMENTARY INFORMATION: The Animal and Plant Health Inspection Service's Plant Protection and Quarantine (PPQ) program protects and safeguards the Nation's plant resources through programs and activities to prevent the introduction and spread of plant pests and noxious weeds. PPQ is planning a public meeting to present information about topics of interest to persons who are affected by PPQ programs, as well as to receive feedback on the PPQ mission, the way the mission is carried out, and the issues PPQ must be prepared to address in the future to continue to be a relevant and credible plant health organization. We believe that such an information exchange is particularly timely as PPQ moves forward from the operation of certain agricultural quarantine and inspection activities to the transfer of these activities to the newly established Customs and Border Protection function of the Department of Homeland Security (DHS).

The agenda for the meeting is not yet complete. Topics will include, but are not limited to: Future priorities, budget update and outlook, update on the DHS transition, pest detection and emergency programs, and issues related to trade and risk assessments. Five interactive panel discussions and workshops are planned on the following topics: Pest risk assessments; permit systems; the stakeholder role in DHS; developing strategic approaches to export enhancement; and Federal, State, and industry roles in implementing incident command in response to pest threats. We are inviting key personnel from DHS, congressional committees, States, and certain stakeholder groups to serve on the panels. Before finalizing the agenda, we are seeking suggestions for additional meeting topics from the public.

Please submit suggested meeting topics to the person listed under FOR FURTHER INFORMATION CONTACT by October 6, 2003. After the agenda is finalized, APHIS will announce the agenda topics in the Federal Register.

We request that all persons wishing to attend the meeting preregister on the PPQ Web site, http://www.aphis.usda.gov/ppq/stakeholders/meeting/index.html. There is no registration fee. Attendance will be guaranteed to the first 100 persons who preregister by November 30, 2003. Persons who preregister should indicate which one of the five concurrent workshops they would like to attend. If you do not have access to the Internet, you may preregister by contacting Ms. Linda Toran at (301) 734-5307.

The Melrose Hotel is setting aside a number of rooms at the conference rate. When reserving a room, please specify that you would like the USDA/APHIS rate. The telephone number for the hotel is (202) 955-6400 or toll free (800) 635-7673. The hotel's Web site is http://www.melrosehotelwashingtondc.com.

Done in Washington, DC, this 2nd day of September 2003.
Peter Fernandez,
Acting Administrator, Animal and Plant Health Inspection Service.

[FR Doc. 03-22652 Filed 9-4-03; 8:45 am]

BILLING CODE 3410-34-P